DEPARTMENT OF HOMELAND SECURITY

Coast Guard

33 CFR Part 117

[Docket No. USCG-2016-0330]

RIN 1625-AA09

Drawbridge Operation Regulation; Gulf Intracoastal Waterway, Sarasota, FL

AGENCY: Coast Guard, DHS.

ACTION: Notice of proposed rulemaking.

SUMMARY: The Coast Guard proposes to modify the operating schedule of four bridges across the Gulf Intracoastal Waterway; Stickney Point, mile 68.6, Siesta Drive, mile 71.6, Cortez, mile, 87.4 and Anna Maria, mile 89.2, Drawbridges, Sarasota, FL. The request was made to the Coast Guard to change the operation of four drawbridges due to an increase in vehicle traffic throughout these areas at all times of the year. This proposed rulemaking would change the bridges' operating schedule from a three times an hour opening schedule to a twice an hour opening schedule throughout the year.

DATES: All comments and related material must be received by the Coast Guard on or before April 14, 2017.

ADDRESSES: You may submit comments identified by docket number USCG-2016-0330 using Federal eRulemaking Portal at http://www.regulations.gov. See the “Public Participation and Request for Comments” portion of the SUPPLEMENTARY INFORMATION section below for instructions on submitting comments.

FOR FURTHER INFORMATION CONTACT: If you have questions about this proposed rule, call or email, LT Ashley Holm, Coast Guard Sector St Petersburg, Florida; telephone (813) 228-2191 x8105, email Ashley.E.Holm@uscg.mil.

SUPPLEMENTARY INFORMATION:

I. Table of Abbreviations

CFR Code of Federal Regulations

DHS Department of Homeland Security

FR Federal Register

NPRM Notice of proposed rulemaking

Pub. L. Public Law

§ Section

U.S.C. United States Code

II. Background, Purpose and Legal Basis

The Metropolitan Planning Office for Sarasota and Manatee Counties, along with the concurrence of the local mayors, have requested that the Coast Guard consider changing the bridge operating regulations for four bridges in this area to allow for the increase of vehicular traffic which is no longer associated with just the tourist season as in the past. For this reason, the Coast Guard is proposing to change the four bridge schedules to provide for both the reasonable needs of navigation and those of land transportation. The bridge owner, Florida Department of Transportation, concurs with these recommendations.

The current operating schedule for the Stickney Point Bridge, Gulf Intracoastal Waterway (GICW) mile 68.6, South Sarasota, Florida, opens on demand per 33 CFR 117.5. This bridge has a vertical clearance of 18 feet in the closed position and a horizontal clearance of 90 feet between fenders. This proposed rulemaking recommends that this bridge be changed to a twice an hour schedule from 6 a.m. to 7 p.m. daily, opening on the hour and half-hour.

The current operating regulation of the Siesta Drive Bridge, mile 71.6 at Sarasota, Florida is published in 33 CFR 117.287(c). This bridge has a vertical clearance of 25 feet in the closed position and a horizontal clearance of 90 feet between fenders. This proposed rulemaking recommends that this drawbridge be changed to a twice an hour schedule from 6 a.m. to 7 p.m. daily, opening on the quarter hour and three-quarter hour.

The current operating regulation of the Cortez (SR 684) Bridge, mile 87.4, is published in 33 CFR 117.287(d)(1). This drawbridge has a vertical clearance of 22 feet in the closed position and a horizontal clearance of 90 feet between fenders. This proposed rulemaking recommends that this drawbridge be changed to a twice an hour schedule from 6 a.m. to 7 p.m. daily, opening on the hour and half-hour.

The current operating regulation of the Anna Maria (SR 64) (Manatee Avenue West) Bridge, mile 89.2, is published in 33 CFR 117.287(d)(2). This drawbridge has a vertical clearance of 24 feet in the closed position and a horizontal clearance of 90 feet between fenders. This proposed rulemaking recommends that this drawbridge be changed to a twice an hour schedule from 6 a.m. to 7 p.m. daily, opening on the hour and half-hour.

III. Discussion of Proposed Rule

The Coast Guard proposes to amend the regulations of four drawbridges across the GCIW in the Sarasota County, Florida area. The proposed rulemakings would allow the bridges to open twice an hour rather than three times an hour or on-demand depending on the bridge to assist in reducing vehicular traffic problems.

This rule proposes to amend 33 CFR 117.287 as follows:

The Stickney Point Bridge, GICW mile 68.6, South Sarasota, Florida, will be added as paragraph (c)(1). This proposed rulemaking recommends that this bridge be changed to a twice an hour schedule from 6 a.m. to 7 p.m. daily, opening on the hour and half-hour. This will align this bridge's schedule with the opening schedule of the other bridges to the north.

The Siesta Drive Bridge, mile 71.6, at Sarasota, Florida, will be added as (c)(2). This proposed rulemaking recommends that this bridge be changed to a twice an hour schedule from 6 a.m. to 7 p.m. daily, opening on the quarter hour and three-quarter hour. This will align this bridge's schedule with the opening schedule of the other bridges to the north and south.

Paragraph (d)(1) will be amended so that the Cortez (SR 684) Bridge, mile 87.4, opens twice an hour from 6 a.m. to 7 p.m. daily, opening on the quarter hour and three-quarter hour. This will align this bridge's schedule with the opening schedule of the other bridges to the north and south.

Paragraph (d)(2) will be amended so that the Anna Maria (SR 64) (Manatee Avenue West) Bridge, mile 89.2, opens twice an hour from 6 a.m. to 7 p.m. daily, opening on the quarter hour and three-quarter hour. This will align this bridge's schedule with the opening schedule of the other bridges to the south.

These proposed changes will meet the reasonable needs of vessel traffic passing through the bridges while taking into account the reasonable needs of other modes of transportation.

IV. Regulatory Analyses

We developed this proposed rule after considering numerous statutes and Executive Orders related to rulemaking. Below we summarize our analyses based on these statutes and Executive Orders.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This NPRM has not been designated a “significant regulatory action,” under Executive Order 12866. Accordingly, the NPRM has not been reviewed by the Office of Management and Budget.

This regulation change will not have a significant impact on navigation in this area as these proposed schedules will allow for vessels to pass through these bridges with minimum disruption. This regulatory action determination is further based on the ability that this meets the reasonable needs of both navigation and other modes of transportation. Vessels not requiring an opening may pass at any time.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b), that this proposed rule would not have a significant economic impact on a substantial number of small entities.

While some owners or operators of vessels intending to transit the bridge may be small entities, for the reasons stated in section IV.A above this proposed rule would not have a significant economic impact on any vessel owner or operator.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please contact the person listed in the FOR FURTHER INFORMATION CONTACT section. The Coast Guard will not retaliate against small entities that question or complain about this proposed rule or any policy or action of the Coast Guard.

C. Collection of Information

This proposed rule would call for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this proposed rule under that Order and have determined that it is consistent with the fundamental federalism principles and preemption requirements described in Executive Order 13132.

Also, this proposed rule does not have tribal implications under Executive Order 13175, Consultation and Coordination with Indian Tribal Governments, because it would not have a substantial direct effect on one or more Indian tribes, on the relationship between the Federal Government and Indian tribes, or on the distribution of power and responsibilities between the Federal Government and Indian tribes. If you believe this proposed rule has implications for federalism or Indian tribes, please contact the person listed in the FOR FURTHER INFORMATION CONTACT section.

E. Unfunded Mandates Reform Act

The Unfunded Mandates Reform Act of 1995 (2 U.S.C. 1531-1538) requires Federal Agencies to assess the effects of their discretionary regulatory actions. In particular, the Act addresses actions that may result in the expenditure by a State, local, or tribal government, in the aggregate, or by the private sector of $100,000,000 (adjusted for inflation) or more in any one year. Though this proposed rule will not result in such an expenditure, we do discuss the effects of this proposed rule elsewhere in this preamble.

F. Environment

We have analyzed this proposed rule under Department of Homeland Security Management Directive 023-01 and Commandant Instruction M16475.lD, which guides the Coast Guard in complying with the National Environmental Policy Act of 1969 (42 U.S.C. 4321-4370f), and have made a preliminary determination that this action is one of a category of actions which do not individually or cumulatively have a significant effect on the human environment. This proposed rule simply promulgates the operating regulations or procedures for drawbridges. Normally such actions are categorically excluded from further review, under paragraph 32(e) of Figure 2-1 of Commandant Instruction M16475.1D.

Under paragraph 32(e) of Figure 2-1 of Commandant Instruction M16475.1D, an environmental analysis checklist and a categorical exclusion determination are not required for this rule. We seek any comments or information that may lead to the discovery of a significant environmental impact from this proposed rule.

V. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this NPRM as being available in the docket, and all public comments, are in our online docket at http://www.regulations.gov and can be viewed by following that Web site's instructions. Additionally, if you go to the online docket and sign up for email alerts, you will be notified when comments are posted or a final rule is published.

List of Subjects in 33 CFR Part 117

Bridges.

For the reasons discussed in the preamble, the Coast Guard proposes to amend 33 CFR part 117 as follows:

PART 117—DRAWBRIDGE OPERATION REGULATIONS

1. The authority citation for part 117 continues to read as follows:

Authority: 33 U.S.C. 499; 33 CFR 1.05-1; and Department of Homeland Security Delegation No. 0170.1.

2. Amend § 117.287 by revising paragraphs (c), (d)(1), and (d)(2) as follows:

§ 117.287 Gulf Intracoastal Waterway.

* * * * *

(c)(1) The Stickney Point Bridge, GICW mile 68.6, South Sarasota, Florida shall open on signal, except that from 6 a.m. to 7 p.m., daily, the draw need only open on the hour and half-hour.

(c)(2) The draw of the Siesta Drive Bridge, mile 71.6 at Sarasota, Florida shall open on signal, except that from 6 a.m. to 7 p.m., daily, the draw need only open on the hour and half-hour.

(d)(1) The draw of the Cortez (SR 684) Bridge, mile 87.4. The draw shall open on signal, except that from 6 a.m. to 7 p.m., daily, the draw need only open on the quarter hour and three-quarter hour.

(d)(2) The draw of the Anna Maria (SR 64) (Manatee Avenue West) Bridge, mile 89.2. The draw shall open on signal, except that from 6 a.m. to 7 p.m., daily, the draw need only open on the quarter hour and three-quarter hour.

* * * * *

S.A. Buschman,
Rear Admiral, U.S. Coast Guard, Commander, Seventh Coast Guard District.

[FR Doc. 2017-02896 Filed 2-10-17; 8:45 am]

BILLING CODE 9110-04-P